DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: High Seas Fishing Permit Application Information.

OMB Control Number: 0648-0304.

Form Number(s): None.

Type of Request: Regular (extension of a currently approved information collection).

Number of Respondents: 600.

Average Hours per Response: Permit application with vessel photo (every 5 years); vessel identification, 45 minutes; request to authorize a fishery on the high seas, 22 hours; transshipment notices and reports, 1 hour; 15 minutes; power-down and power-on requests, 5 minutes; observer notification, 5 minutes.

Burden Hours: 272.

Needs and Uses: This request is for extension of a currently approved information collection.

United States vessels that fish on the high seas (waters beyond the U.S. exclusive economic zone) are required to possess a permit issued under the High Seas Fishing Compliance Act (HSFCA). Applicants for this permit must submit information to identify their vessels, owners and operators of the vessels, and intended fishing areas. The application information is used to process permits and to maintain a register of vessels authorized to fish on the high seas.

The HSFCA also requires vessels be marked for identification and enforcement purposes. Vessels must be marked in three locations (port and starboard sides of the deckhouse or hull, and on a weatherdeck) with their official number or radio call sign.

These requirements apply to all vessels fishing on the high seas.

Affected Public: Business or other for-profit organizations.

Frequency: Every five years or on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 18, 2018.
Sarah Brabson,
NOAA PRA Clearance Officer.

[FR Doc. 2018-23075 Filed 10-22-18; 8:45 am]

BILLING CODE 3510-22-P